DEPARTMENT OF AGRICULTURE

Natural Resources Conservation Service

[Docket No. NRCS-2025-0137]

Notice of Intent To Prepare an Environmental Impact Statement for the Black River Watershed in Butler County, Missouri

AGENCY: Natural Resources Conservation Service, U.S. Department of Agriculture (USDA).

ACTION: Notice of intent (NOI) to prepare an environmental impact statement; notice of public meeting.

SUMMARY: The Natural Resources Conservation Service (NRCS) Missouri State Office announces its intent to prepare an Environmental Impact Statement (EIS) for a proposed action involving the segment of the Black River in Butler County, Missouri, that reaches from the city of Poplar Bluff south to the Missouri-Arkansas state line. This reach of the Black River intersects four adjacent watersheds: Little Hunting Slough-Black River, Catherine Slough, Blue Spring Slough, and Old Menorkenut Slough. Along this stretch of river are residences, agricultural land, developed land, and the Coon Island Conservation Area. NRCS is requesting that interested individuals, Federal and State agencies, and Tribes participate in the scoping process for the EIS by attending the initial public scoping meeting and by submitting comments as described below. The goal of scoping is for NRCS to obtain input on identifying significant issues, potential alternatives, information, and analyses relevant to the proposed action.

DATES: Initial Public Scoping Meeting Date—August 20, 2025, 6:00 p.m. Comments—We invite you to submit comments in response to this notice. Please submit comments by September 12, 2025.

ADDRESSES: The initial public scoping meeting will be held at Ozark Foothills Regional Planning Commission, 3019 Fair Street, Poplar Bluff, Missouri 63901. We invite you to submit comments in response to this notice. You may submit your comments through one of the methods below.

• Federal eRulemaking Portal: Go to http://www.regulations.gov and search for Docket ID NRCS-2025-0137. Follow the online instructions for submitting comments; or

• Agency Website: https://www.nrcs.usda.gov/programs-initiatives/watershed-programs/missouri/watershed-programs-mo. Follow the instructions for sending comments on the Black River EIS; or

• Mail: USDA-NRCS Acting Assistant State Conservationist for Water Resources and Easements, 601 Business Loop 70 West, Suite 250, Columbia, MO 65203. Specify the Black River EIS in your correspondence; or

• Hand-delivery or courier: Natural Resources Specialist, Butler County USDA Service Center, 4327 Highway 67 North, Poplar Bluff, MO 63901. Specify the Black River EIS in your correspondence.

All substantive comments received will be posted without change and made publicly available on the agency website or on www.regulations.gov, based on method received, including any personal information provided.

FOR FURTHER INFORMATION CONTACT: Andy Rackers, P.E., State Conservation Engineer, telephone: 573-876-9376; email: Andrew.rackers@usda.gov. Specify the Black River EIS in your inquiry.

Individuals who require alternative means for communication should contact the USDA Target Center at (202) 720-2600 (voice and text telephone (TTY)) or dial 711 for Telecommunications Relay service (both voice and text telephone users can initiate this call from any telephone).

SUPPLEMENTARY INFORMATION:

Purpose and Need

The primary purpose of the proposed action is to prevent or reduce damage that results from flooding of the Black River in Butler County, Missouri. Flooding along the Black River in recent years has damaged agricultural land and infrastructure, interfered with the production of agricultural commodities, and interrupted transit by inundating roads and bridges. Most of the damage occurs when the existing levee system breaches and sends floodwater onto the landscape. The most recent levee system breaches occurred in 2008, 2011, 2017, and 2024.

The EIS will develop and evaluate potential measures for addressing the range of issues caused by flooding, including property damage, reduced agricultural productivity and income, the socioeconomic impacts of traffic disruptions, delays in emergency response, and loss of life. The EIS will be prepared as required by section 102(2)(C) of the National Environmental Policy Act of 1969 (NEPA) and NRCS regulations in 7 CFR Subtitle A Part 1b (7 CFR 1b).

Watershed planning is authorized under the Watershed Protection and Flood Prevention Act of 1954 (Pub. L. 83-566), as amended, and the Flood Control Act of 1944 (Pub. L. 78-534).

Reorganized Butler County Drainage District No. 7 (DD7), North Inter-River Drainage District (IRDD), and Ring Levee Drainage District (RLDD) are the Sponsoring Local Organizations (SLOs) for the proposed action. The drainage districts are granted authority under State of Missouri Title XV, Chapter 243 to organize, appoint a board, and levy taxes for improvements to drainage district infrastructure to benefit public health, convenience, and welfare of the local population. In the National Levee Database, the authorization category for DD7 and IRDD is Locally Constructed, Locally Operated and Maintained; RLDD is in the category Federally Authorized by the U.S. Army Corps of Engineers (USACE) and Operated and Maintained by Another Entity (meaning RLDD).

Preliminary Proposed Action and Alternatives, Including No Action

The EIS will identify and evaluate all reasonable alternatives for addressing the cause(s) of flooding in the Black River watershed and potential solutions for preventing or reducing damage. A known cause of flooding is deterioration of the levee infrastructure that has been in place for many decades. Other issues and opportunities may be identified during the EIS process.

The EIS is expected to evaluate four alternatives: three action alternatives and one no-action alternative, as described below. The action alternatives may not be mutually exclusive and may not be limited to the preliminary alternatives described here, depending on public and agency input going forward. The action alternatives, along with other scenarios, were explored in a 2023 hydrology study by USACE, which included local stakeholder input.¹

¹ USACE. 2023. Hydrologic Analysis of the Black River in Southeast Missouri.

Alternative 1, No Action: This alternative represents what would happen if no Federal assistance or funding were provided. In the No-Action Alternative, the levee system would continue to be vulnerable to breaches and consequent flooding of land surrounding the Black River. The local community would continue to face the risk of property damage, negative socioeconomic impacts, and public safety issues.

Alternative 2, Proposed Action—Two-stage Ditches: These are drainage canals that have been modified from the conventional trapezoidal cross-section by adding benches on either side of an inset channel. The benches serve as floodplains within the drainage canal, emulating natural fluvial form and process more closely than conventional drainage canals, leading to greater channel stability and reduced nutrient loading. As modeled in the USACE study, two-stage ditches reduced flood duration more than they reduced peak flood elevation. Potential specific locations and designs for two-stage ditches will be evaluated as part of the EIS.

Alternative 3, Proposed Action—Standard Channel Cleanout or Maintenance with a Low-water Weir at Swift Ditch: The standard channel cleanout or maintenance would be implemented from upstream of the Hargrove Pivot Bridge (where County Road 658 crosses the Black River) south to the state border with Arkansas. Swift Ditch runs roughly parallel to the Black River for a portion of this stretch. Combining channel cleanout or maintenance with a low-water weir at Swift Ditch would improve river efficiency and allow the river to naturally scour and increase carrying capacity with less risk than other scenarios causing head cutting and bank failures. This alternative would restrict flow in Swift Ditch and direct the river's energy back towards the Black River, removing much of the deposition that has occurred. Potential cleanout methods, weir designs, and specific locations for these measures will be evaluated as part of the EIS.

Alternative 4, Proposed Action—Levee Setbacks: The Black River is narrowly confined by levees that are close to the river on both sides. Relocating strategic sections of levee to a greater distance from the river's edge would provide more space for the river to flow. As modeled in the USACE study, levee setbacks reduced flood flows in duration and in peak flood elevation for nearly the full range of flows analyzed. Levee setbacks would also reduce the pressure and risk of failure on the existing levee layout. Potential specific locations and extents for levee setbacks will be evaluated as part of the EIS.

Summary of Expected Impacts

The natural resources and aspects of the human environment to be analyzed in the EIS for potential impacts include soils, farmland, erosion, surface and groundwater quality and quantity, wetlands, waterways, floodplains, air quality, endangered and threatened species, fish and wildlife habitats, migratory birds, riparian areas, invasive species, cultural and historic resources, socioeconomics, public health and safety, and transportation, among others.

The natural resources and aspects of the human environment that have more potential than others to be impacted—whether positively or negatively—include the socioeconomics of agricultural production and for landowners, wooded areas of levees or drainage canals that may provide habitat for endangered bats, possible changes in the flood regime in the Coon Island Conservation Area, and the ecosystem services provided by floodplains, wetlands, and riparian areas. The full list of concerns to be analyzed for potential impacts will be developed through public scoping, agency consultations, and other steps in the EIS process.

Anticipated Permits and Authorizations

The following permits and authorizations, among others, will be evaluated for relevance to the proposed action.

• Federal Emergency Management Agency, Floodplain Development Permit. Implementation of the proposed action will require coordination with the local floodplain administrator and may require a Floodplain Development Permit to ensure all development and engineering requirements for construction within Special Flood Hazard Areas are implemented.

• Clean Water Act (CWA), National Pollutant Discharge Elimination System (NPDES), and Missouri State 401 Water Quality Certification. Implementation of the proposed action will require NPDES permitting under section 402 of the CWA and section 404 of the CWA for potential impacts on the Black River and associated wetlands. If a USACE Individual Permit is required, water quality certification under section 401 of the CWA will be required from the Missouri Department of Natural Resources. If the work is accomplished under USACE Nationwide Permits, then a programmatic Clean Water Section 401 certification may be granted under specific pre-established conditions.

• Rivers and Harbors Act. Consultation with USACE will be conducted as required by Section(s) 10 and/or 14 the Rivers and Harbors Act.

• National Historic Preservation Act (NHPA) Section 106. Consultation with Tribal Nations and interested parties will be conducted as required by NHPA.

• Endangered Species Act (ESA) Section 7. Consultation with the U.S. Fish and Wildlife Service will be conducted based on ESA requirements.

Schedule of Decision-Making Process

Following the initial public scoping meeting and comment period described above, NRCS will prepare a Draft EIS (DEIS) and circulate it for review and comment by agencies, Tribes, consulting parties, and the public for 45 days.

Changes resulting from the DEIS public comments will be incorporated into the Final EIS, to be published within 24 months after publication of this NOI. A Record of Decision will be completed after the required 30-day waiting period and will be publicly available. The Responsible Federal Official and decision-maker for NRCS is the Missouri State Conservationist.

Public Scoping Process

In addition to the initial public scoping meeting and comment period described above, NRCS and the SLOs are planning to hold a second public meeting during preparation of the DEIS to provide an opportunity to review and comment on the alternatives that are developed. This second meeting will also be an opportunity to express concern or support and to gain further information regarding the proposed action. NRCS will coordinate the scoping process to correspond with Section 106 of NHPA (54 U.S.C. 306108) as allowed in 36 CFR 800.2(d)(3) and 800.8.

Comments received, including the names and addresses of those who comment, will become part of the public record. Scoping meeting presentation materials will be available on the NRCS website during EIS development.

Identification of Potential Alternatives, Information, and Analyses

NRCS invites agencies, Tribes, consulting parties, and individuals that have special expertise, legal jurisdiction, or interest in the EIS to provide written comments concerning the scope of the analysis and identification of potential alternatives, information, and analyses relevant to the proposed action. Information about historic and cultural resources within the area potentially affected by the proposed action will assist NRCS in identifying and evaluating impacts on such resources in the context of both NEPA and NHPA.

NRCS will consult with Native American Tribes on a government-to-government basis in accordance with the regulations in 36 CFR 800.2 and 800.3, Executive Order 13175, and other policies. Tribal concerns, including impacts on Indian trust assets and potential impacts on cultural resources and historic properties, will be given due consideration.

Authorities

Watershed planning is authorized under the Watershed Protection and Flood Prevention Act of 1954 (Pub. L. 83-566), as amended, and the Flood Control Act of 1944 (Pub. L. 78-534).

Federal Assistance Programs

The title and number of the Federal Assistance Program as found in the Assistance Listing,² to which this document applies is 10.904, Watershed Protection and Flood Prevention.

² See https://sam.gov/content/assistance-listings.

Executive Order 12372

Executive Order 12372, “Intergovernmental Review of Federal Programs,” requires consultation with State and local officials that would be directly affected by proposed Federal financial assistance. The objectives of the Executive Order are to foster an intergovernmental partnership and a strengthened federalism, by relying on State and local processes for State and local government coordination and review of proposed Federal financial assistance and direct Federal development. This project is subject to the provisions of Executive Order 12372, which requires intergovernmental consultation with State and local officials.

Nathan Goodrich,
Acting NRCS State Conservationist, Columbia, Missouri Natural Resources Conservation Service.

[FR Doc. 2025-15342 Filed 8-12-25; 8:45 am]

BILLING CODE 3410-16-P